NUCLEAR WASTE TECHNICAL REVIEW BOARD

Board Meeting: March 7, 2012—Albuquerque, NM; The U.S. Nuclear Waste Technical Review Board Will Meet To Discuss DOE Work on Criteria and Modeling for Generic Repository Geologies

Pursuant to its authority under section 5051 of Public Law 100-203, the Nuclear Waste Technical Review Board will hold a public meeting in Albuquerque, New Mexico, on Wednesday, March 7, 2012. The meeting will focus on Department of Energy (DOE) work related to geologic disposal of spent nuclear fuel and high-level radioactive waste. Following up on presentations at the Board's January meeting in Arlington, Virginia, DOE will discuss technical site-selection criteria for a deep geologic repository. A representative of the U.S. Geological Survey (USGS) will provide a USGS perspective on this subject. The meeting also will include a presentation on the status of DOE's development of performance assessment models for different rock types and its evaluation of technical issues related to deep borehole disposal. A representative of the Blue Ribbon Commission on America's Nuclear Future (BRC) will kick off the meeting with an overview of the BRC's final report and recommendations to the Secretary of Energy.

The meeting will begin at 8 a.m. and will adjourn at approximately 5:45 p.m. It will be held at the Sheraton Albuquerque Airport Hotel, 2910 Yale Blvd. SE., Albuquerque, New Mexico 87106; (Tel) 505-843-7000; (Fax) 505-843-6307. A block of rooms has been reserved at the hotel for meeting attendees. To ensure receiving the Federal government rate of $81.00 per night, room reservations must be made in the “NWTRB” room block by Friday, February 17, 2012. The number to call for reservations is 1-800-227-1117. The electronic reservation link is http://www.starwoodmeeting.com/Star;GroupsWeb/res?id=1201240950&key=A0B7A.

A detailed agenda will be available on the Board's Web site at www.nwtrb.gov approximately one week before the meeting. The agenda also may be obtained by telephone request at that time.

The meeting will be open to the public, and an opportunity for public comment will be provided at the end of the day. Those wanting to speak are encouraged to sign the “Public Comment Register” at the check-in table. A time limit may need to be set for individual remarks, but written comments of any length may be submitted for the record.

A transcript of the meeting will be available on the Board's Web site, by email, on computer disk, or in paper form on a library-loan basis from Davonya Barnes of the Board's staff after March 30, 2012.

The Board was established as an independent federal agency to provide ongoing objective expert advice to Congress and the Secretary of Energy on technical issues related to nuclear waste management and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site.

For information on the meeting agenda, contact Karyn Severson. For information on lodging or logistics, contact Linda Coultry. They can be reached at 2300 Clarendon Boulevard, Suite 1300, Arlington, VA 22201-3367; (tel) 703-235-4473; (fax) 703-235-4495.

Dated: February 9, 2012.
Nigel Mote,
Executive Director, U.S. Nuclear Waste Technical Review Board.

[FR Doc. 2012-3463 Filed 2-14-12; 8:45 am]

BILLING CODE 6820-AM-M